DEPARTMENT OF TRANSPORTATION

Federal Aviation Administration

14 CFR Part 71

[Docket No. FAA-2015-7857; Airspace Docket No. 15-ASW-22]

Proposed Amendment of Class D and Class E Airspace for the Following Oklahoma Towns; Antlers, OK; Oklahoma City, OK; Oklahoma City Wiley Post Airport, OK; and Shawnee, OK

AGENCY: Federal Aviation Administration (FAA), DOT.

ACTION: Notice of proposed rulemaking (NPRM).

SUMMARY: This action proposes to modify Class D airspace, Class E airspace designated as surface areas, and Class E airspace extending upward from 700 feet above the surface at Antlers, OK; Oklahoma City, OK; Oklahoma City Wiley Post Airport, OK; and Shawnee, OK. The decommissioning of non-directional radio beacons (NDB) and/or cancellation of NDB approaches due to advances in Global Positioning System (GPS) capabilities have made this action necessary for the safety and management of Instrument Flight Rules (IFR) operations at the above locations. This action also would note the updated airport names of David Jay Perry Airport, Goldsby, OK; El Reno Regional Airport, Shawnee Regional Airport, and Chandler Regional Airport to coincide with the FAA's aeronautical database. Additionally, this action would update the geographic coordinates for Tinker AFB, El Reno Regional Airport, Wiley Post Airport, Sundance Airpark, Seminole Municipal Airport, Prague Municipal Airport, Chandler Regional Airport, Tilghman NDB, Cushing Municipal Airport, Cushing NDB, and Cushing Regional Hospital Heliport to coincide with the FAA's aeronautical database.

DATES: Comments must be received on or before April 25, 2016.

ADDRESSES: Send comments on this proposal to the U.S. Department of Transportation, Docket Operations, M-30, West Building Ground Floor, Room W12-140, 1200 New Jersey Avenue SE., Washington, DC 20590; telephone (202) 366-9826. You must identify FAA Docket No. FAA-2015-7857; Airspace Docket No. 15-ASW-22, at the beginning of your comments. You may also submit comments through the Internet at http://www.regulations.gov. You may review the public docket containing the proposal, any comments received, and any final disposition in person in the Dockets Office between 9:00 a.m. and 5:00 p.m., Monday through Friday, except Federal holidays. The Docket Office (telephone 1-800-647-5527) is on the ground floor of the building at the above address.

FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would amend Class E airspace at Antlers Municipal Airport, Antlers, OK; El Reno Regional Airport, Oklahoma City, OK; and Prague Municipal Airport, Shawnee, OK.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2015-7857/Airspace Docket No. 15-ASW-22.” The postcard will be date/time stamped and returned to the commenter.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX, 76177.

Persons interested in being placed on a mailing list for future NPRMs should contact the FAA's Office of Rulemaking, (202) 267-9677, for a copy of Advisory Circular No. 11-2A, Notice of Proposed Rulemaking Distribution System, which describes the application procedure.

Availability and Summary of Documents Proposed for Incorporation by Reference

This document would amend FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Proposal

The FAA is proposing an amendment to Title 14 Code of Federal Regulations (14 CFR) Part 71 by modifying Class E airspace extending upward from 700 feet above the surface at Antlers Municipal Airport, Antlers, OK; El Reno Regional Airport, Oklahoma City, OK; and Prague Municipal Airport, Shawnee, OK. The proposed airspace reconfigurations are due to decommissioning of NDBs and/or cancellation of the NDB approaches at each airport. This action is necessary for the safety and management of IFR operations under Standard Instrument Approach Procedures. Additionally, this proposal would note the name change of the following airports: El Reno Regional Airport (formerly El Reno Municipal Airpark; David Jay Perry Airport, Goldsby, OK (formerly David J. Perry Airport, Norman, OK); Shawnee Regional Airport (formerly Shawnee Municipal Airport); and Chandler Regional Airport (formerly Chandler Municipal Airport). Geographic coordinates also would be adjusted for the following airports and navigation aids: Tinker AFB; El Reno Regional Airport; Wiley Post Airport; Sundance Airpark; Seminole Municipal Airport; Prague Municipal Airport; Chandler Regional Airport; Tilghman NDB; Cushing Municipal Airport; Cushing NDB; and Cushing Regional Hospital Heliport.

Class D and Class E airspace designations are published in paragraph 5000, 6002, and 6005, respectively, of FAA Order 7400.9Z, dated August 6, 2015, and effective September 15, 2015, which is incorporated by reference in 14 CFR 71.1. The Class D and Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D Airspace.

* * * * *

ASW OK D Oklahoma City Wiley Post Airport, OK [Amended]

Oklahoma City, Wiley Post Airport, OK

(Lat. 35°32′03″ N., long. 97°38′49″ W.)

That airspace extending upward from the surface to and including 3,800 feet MSL within a 4.3-mile radius of Wiley Post Airport excluding that airspace within the Oklahoma City, Will Rogers World Airport, OK, Class C airspace area. This Class D airspace area is effective during the specific dates and times established in advance by a Notice to Airmen. The effective date and time will thereafter be continuously published in the Airport/Facility Directory.

Paragraph 6002 Class E Airspace Designated as Surface Areas.

* * * * *

ASW OK E2 Oklahoma City Wiley Post Airport, OK [Amended]

Oklahoma City, Wiley Post Airport, OK

(Lat. 35°32′03″ N., long. 97°38′49″ W.)

Within a 4.3-mile radius of Wiley Post Airport excluding that airspace within the Oklahoma City, Will Rogers World Airport, OK, Class C airspace area. This Class E airspace area is effective during the specific dates and times established in advance by a Notice to Airmen. The effective date and time will thereafter be continuously published in the Airport/Facility Directory.

Paragraph 6005 Class E Airspace Areas Extending Upward From 700 Feet or More Above the Surface of the Earth.

* * * * *

ASW OK E5 Antlers, OK [Amended]

Antlers Municipal Airport, OK

(Lat. 34°11′33″ N., long. 95°38′59″ W.)

That airspace extending upward from 700 feet above the surface within a 6.3-mile radius of Antlers Municipal Airport.

* * * * *

ASW OK E5 Oklahoma City, OK [Amended]

Oklahoma City, Will Rogers World Airport, OK

(Lat. 35°23′35″ N., long. 97°36′03″ W.)

Oklahoma City, Tinker AFB, OK

(Lat. 35°24′53″ N., long. 97°23′12″ W.)

Norman, University of Oklahoma Westheimer Airpark, OK

(Lat. 35°14′44″ N., long. 97°28′20″ W.)

University of Oklahoma Westheimer Airpark ILS Localizer

(Lat. 35°14′58″ N., long. 97°27′51″ W.)

Goldsby, David Jay Perry Airport, OK

(Lat. 35°09′18″ N., long. 97°28′13″ W.)

Oklahoma City, Clarence E. Page Municipal Airport, OK

(Lat. 35°29′17″ N., long. 97°49′25″ W.)

El Reno Regional Airport, OK

(Lat. 35°28′22″ N., long. 98°00′21″ W.)

Oklahoma City, Wiley Post Airport, OK

(Lat. 35°32′03″ N., long. 97°38′49″ W.)

Oklahoma City, Sundance Airpark, OK

(Lat. 35°36′07″ N., long. 97°42′22″ W.)

That airspace extending upward from 700 feet above the surface within an 8.1-mile radius of Will Rogers World Airport, and within an 8.2-mile radius of Tinker AFB, and within an 8.9-mile radius of University of Oklahoma Westheimer Airpark, and within 1.8 miles each side of the University of Oklahoma Westheimer Airpark ILS Localizer southwest course extending from the 8.9- mile radius to 12 miles southwest of the airport, and within a 6.3-mile radius of David Jay Perry Airport, and within a 6.5-mile radius of Clarence E. Page Airport, and within a 6.6-mile radius of El Reno Regional Airport, and within a 6.8-mile radius of Wiley Post Airport, and within a 6.8-mile radius of Sundance Airpark.

* * * * *

ASW OK E5 Shawnee, OK [Amended]

Shawnee Regional Airport, OK

(Lat. 35°21′26″ N., long. 96°56′34″ W.)

Seminole, Seminole Municipal Airport, OK

(Lat. 35°16′28″ N., long. 96°40′31″ W.)

Prague Municipal Airport, OK

(Lat. 35°28′51″ N., long. 96°43′08″ W.)

Chandler Regional Airport, OK

(Lat. 35°43′21″ N., long. 96°49′13″ W.)

Tilghman NDB

(Lat. 35°43′21″ N., long. 96°49′07″ W.)

Cushing Municipal Airport, OK

(Lat. 35°57′00″ N., long. 96°46′24″ W.)

Cushing NDB

(Lat. 35°53′24″ N., long. 96°46′24″ W.)

Cushing Regional Hospital Heliport, OK, Point In Space Coordinates

(Lat. 35°58′41″ N., long. 96°45′27″ W.)

That airspace extending upward from 700 feet above the surface within a 7-mile radius of Shawnee Regional Airport, and within a 6.6-mile radius of Seminole Municipal Airport, and within a 6.3-mile radius of Prague Municipal Airport, and within a 6.4-mile radius of Chandler Regional Airport, and within 2.5 miles each side of the 352° bearing from the Tilghman NDB extending from the 6.4-mile radius to 7.3 miles north of the airport, and within a 6.5-mile radius of Cushing Municipal Airport and within 2.1 miles each side of the 185° bearing from the Cushing NDB extending from the 6.5-mile radius to 9.3 miles south of the airport, and that airspace within a 6-mile radius of the Point In Space serving Cushing Regional Hospital Heliport.

Issued in Fort Worth, Texas, on February 29, 2016.
Vonnie Royal,
Acting Manager, Operations Support Group, Central Service Center.

[FR Doc. 2016-05177 Filed 3-10-16; 8:45 am]

BILLING CODE 4910-13-P